SOCIAL SECURITY ADMINISTRATION

[Docket No. SSA-2009-0001]

Occupational Information Development Advisory Panel Meeting

AGENCY: Social Security Administration.

ACTION: Notice of Inaugural Meeting; Correction notice.

SUMMARY: The Social Security Administration published in the Federal Register of January 21, 2009, a document announcing the dates and times of the Notice of Inaugural Meeting of the Occupational Information Development Advisory Panel Meeting. This notice serves to correct the beginning time for the meeting on February 23, 2009. The meeting will begin at 9 a.m.

DATES: Effective on January 27, 2009.

FOR FURTHER INFORMATION CONTACT: Debra Tidwell Peters, 410-965-9617.

SUPPLEMENTARY INFORMATION: The Social Security Administration published a document in the Federal Register of January 21, 2009, (74 FR 3666), announcing the Inaugural Meeting of the Occupational Information Development Advisory Panel Meeting. On February 23, 2009, the correct beginning time is 9 a.m.

Debra Tidwell-Peters,
Designated Federal Officer, Occupational Information Development Advisory Panel.

[FR Doc. E9-1733 Filed 1-26-09; 8:45 am]

BILLING CODE 4191-02-P